DEPARTMENT OF TRANSPORTATION

Federal Aviation Administration

Office of Commercial Space Transportation; Notice of Availability and Request for Comment on the Second Draft Environmental Assessment (EA) for the Kodiak Launch Complex Launch Pad 3, Kodiak Island, Alaska

AGENCY: Federal Aviation Administration (FAA), Department of Transportation (DOT).

ACTIONS: Notice of Availability, Notice of Public Comment Period, and Request for Comment.

SUMMARY: In accordance with the National Environmental Policy Act of 1969, as amended (NEPA; 42 United States Code 4321 et seq.), Council on Environmental Quality NEPA implementing regulations (40 Code of Federal Regulations parts 1500 to 1508), and FAA Order 1050.1E, Change 1, Environmental Impacts: Policies and Procedures, the FAA is announcing the availability of and requesting comments on the Second Draft Environmental Assessment for the Kodiak Launch Complex Launch Pad 3 (Second Draft EA).

On September 15, 2014, the FAA issued a Draft EA for public review and comment and received 54 written comments and 26 oral comments over the public comment and review period that was extended to November 1, 2014. After taking into consideration the nature of public comments received on the Draft EA, the FAA is providing the public with an opportunity to review and comment on updates and clarification information that have since been added to the EA in response to public comments. The FAA is issuing an updated version of the Draft EA for a second public review and comment period.

FOR FURTHER INFORMATION CONTACT: Stacey M. Zee, Federal Aviation Administration, c/o ICF International, 9300 Lee Highway, Fairfax, VA 22031; email FAAKodiakEA@icfi.com; telephone (202) 267-9305.

SUPPLEMENTARY INFORMATION: The Second Draft EA is an updated version of the September 2014 Draft EA, and incorporates all public comments received on the Draft EA. All written and oral public comments received on the Draft EA, as well as the FAA's responses to these comments, can be found in Appendix R of the Second Draft EA. The FAA considered all public comments while preparing the Second Draft EA, and changes have been made to the EA where warranted.

The EA was prepared to analyze the potential environmental impacts of the FAA modifying the Alaska Aerospace Corporation's (AAC's) Launch Site Operator License to include medium-lift launch capability at the Kodiak Launch Complex (KLC), a commercial launch site currently operated under a FAA Launch Site Operator License (LSO-03-008), which authorizes only small-lift operations. The Kodiak Launch Complex was renamed as Pacific Spaceport Complex Alaska, effective April 21, 2015. The EA keeps the name as KLC for continuity and ease of reviewing.

Expansion of launch capabilities at KLC would include the addition of new infrastructure necessary to support medium-lift launches, including the construction of a launch pad and associated facilities. As part of the Proposed Action addressed in the EA, AAC would make improvements to the KLC to add both solid and liquid-propellant, medium-lift launch capability, and to operate the KLC in the future as a small-lift and medium-lift launch complex. Proposed construction at KLC includes six primary modifications: Construction of Launch Pad 3 (LP3), a vehicle processing facility, rocket staging facility, liquid fuel facility, mission control center and improvements to Pasagshak Point Road. Proposed launch operations would include up to six orbital small-lift launches and three medium-lift launches per year from the existing launch pads and from the proposed LP3; however, to be conservative in the analysis of potential environmental impacts, the EA assumes a maximum of nine medium-lift launches per year.

The EA addresses the potential environmental impacts of implementing the Proposed Action and the No Action Alternative. Under the No Action Alternative, the FAA would not modify AAC's Launch Site Operator License to include medium-lift launch capability and AAC would not proceed with the construction of medium-lift launch support infrastructure at KLC. Existing launch activities for up to nine orbital small-lift class launches per year from the existing launch pads would continue.

The impact categories considered in the EA include air quality; compatible land use; Department of Transportation Act: Section 4(f); fish, wildlife, and plants; hazardous materials, pollution prevention, and solid waste; historical, architectural, archaeological, and cultural resources; light emissions and visual impacts; natural resources and energy supply; noise; socioeconomic, environmental justice, and children's environmental health and safety risk; water quality; and wetlands. The EA also considers the potential cumulative environmental impacts.

The FAA has posted the Second Draft EA on the FAA Office of Commercial Space Transportation Web site: http://www.faa.gov/about/office_org/headquarters_offices/ast/environmental/nepa_docs/review/documents_progress/kodiak_launch/.

A paper copy and a CD version of the Second Draft EA may be reviewed for comment during regular business hours at the following libraries:

• Kodiak Public Library, 612 Egan Way, Kodiak, AK 99615

• University of Alaska Anchorage—Carolyn Floyd Library, 117 Benny Benson Drive, Kodiak, AK 99615

• Anchorage Municipal Library, 3600 Denali St., Anchorage, AK 99503

DATES: The FAA encourages all interested parties to provide comments concerning the scope and content of the Second Draft EA. To ensure that all comments can be addressed in the Final EA, comments on the draft must be received by the FAA no later than January 11, 2016. Comments should be as specific as possible and address the analysis of potential environmental impacts and the adequacy of the proposed action or merits of alternatives and the mitigation being considered. Reviewers should organize their comments to be meaningful and inform the FAA of their interests and concerns by quoting or providing specific references to the text of the Second Draft EA. Matters that could have been raised with specificity during the comment period on the Second Draft EA may not be considered if they are raised for the first time later in the decision process. This commenting procedure is intended to ensure that substantive comments and concerns are made available to the FAA in a timely manner so that the FAA has an opportunity to address them.

Before including your address, phone number, email address, or other personal identifying information in your comment, be advised that your entire comment—including your personal identifying information—may be made publicly available at any time. While you can ask us in your comment to withhold from public review your personal identifying information, we cannot guarantee that we will be able to do so.

ADDRESSES: Please submit comments in writing to Stacey M. Zee, Federal Aviation Administration, c/o ICF International, 9300 Lee Highway, Fairfax, VA 22031; or by email at FAAKodiakEA@icfi.com.

Issued in Washington, DC on November 30, 2015.
Daniel Murray,
Manager, Space Transportation Development Division.

[FR Doc. 2015-30731 Filed 12-4-15; 8:45 am]

BILLING CODE 4910-13-P